DEPARTMENT OF THE INTERIOR

Bureau of Land Management

[LLAZ910000.L14300000.ET0000.LXSIURAM0000 241A; AZA-35138]

Notice of Availability of Record of Decision for the Northern Arizona Proposed Withdrawal

AGENCY: Bureau of Land Management, Interior.

ACTION: Notice of Availability.

SUMMARY: The Bureau of Land Management (BLM) announces the availability of the Record of Decision (ROD) for the Northern Arizona Proposed Withdrawal. The Secretary of the Interior signed the ROD on January 9, 2012, which constitutes the final decision of the Department of the Interior.

ADDRESSES: Copies of the ROD are available upon request from the State Director, Arizona State Office, One N Central Ave, Phoenix, AZ, or via the Internet at http://www.blm.gov/az/st/en/prog/mining/timeout/rod.html.

FOR FURTHER INFORMATION CONTACT: Chris Horyza, Project Manager, Bureau of Land Management, Arizona State Office, One North Central Avenue, Suite 800, Phoenix, Arizona 85004-4427, (602) 417-9446, email chris_horyza@blm.gov or Scott Florence, District Manager, Arizona Strip District BLM, 345 East Riverside Drive, St. George, Utah 84790. Persons who use a telecommunications device for the deaf (TDD) may call the Federal Information Relay Service (FIRS) at (800) 877-8339 to contact the above individual during normal business hours. The service is available 24 hours a day, 7 days a week, to leave a message or question with the above individual. You will receive a reply during normal business hours.

SUPPLEMENTARY INFORMATION: The Final EIS for the Northern Arizona Proposed Withdrawal was released and made available for a 30-day public availability period on October 28, 2011. The final EIS documents the effects of withdrawing from location and entry under the General Mining Law 1,006,545 acres of Federal land and interests in land in the vicinity of the Grand Canyon, Arizona for 20 years, subject to valid existing rights. The withdrawal would also apply to lands subsequently acquired by the United States within the boundaries of the withdrawal. The Resource Management Plan for the Arizona Strip Field Office and Forest plans for the Kaibab National Forest would be amended to reflect the intent of the withdrawal. Based on the analysis in the Northern Arizona Proposed Withdrawal EIS, and as set forth in the ROD, the Department of the Interior has decided a withdrawal of 1,006,545 acres from location and entry under the Mining Law, subject to valid existing rights and in accordance with the preferred alternative is warranted. Unpatented mining claims with valid existing rights and private lands will not be affected.

The Record of Decision constitutes the final decision of the Secretary of Interior. There is no administrative protest or appeal from a decision of the Secretary.

Authority: 40 CFR 1506.6, 43 CFR part 2310.

Robert V. Abbey,
Director, Bureau of Land Management.

[FR Doc. 2012-620 Filed 1-13-12; 8:45 am]

BILLING CODE 4310-32-P